DEPARTMENT OF ENERGY

Federal Energy Regulatory Commission

[Project No. 2496-194]

Eugene Water and Electric Board; Notice of Availability of Environmental Assessment

November 5, 2009.

In accordance with the National Environmental Policy Act of 1969 and the Federal Energy Regulatory Commission's regulations, 18 CFR part 380 (Order No. 486, 52 FR 47879) the Commission has reviewed an application filed by Eugene Water and Electric Board (licensee) on December 24, 2008, and supplemented on January 27 and April 1, 2009, requesting Commission approval to construct a new boat launch at the Leaburg-Walterville Hydroelectric Project (FERC No. 2496). The proposed boat launch would be located at the project's Leaburg Development, along Leaburg Lake, near the Goodpasture covered bridge.

The Commission has prepared an environmental assessment (EA) that evaluates the environmental impacts of the licensee's proposal. The EA finds that approval of the application would not constitute a major federal action significantly affecting the quality of the human environment.

The EA is attached to a Commission order titled “Order Approving Amendment to Recreation Plan Pursuant to Article 432”, issued October 30, 2009, and is available for review and reproduction at the Commission's Public Reference Room, located at 888 First Street, NE., Room 2A, Washington, DC 20426. The EA may also be viewed on the Commission's Web site at http://www.ferc.gov using the “eLibrary” link. Enter the docket number (P-2496) excluding the last three digits in the docket number field to access the document. For assistance, contact FERC Online Support at FERCOnlineSupport@ferc.gov or toll-free at 1-866-208-3372, or for TTY, (202) 502-8659.

Kimberly D. Bose,
Secretary.

[FR Doc. E9-27293 Filed 11-12-09; 8:45 am]

BILLING CODE 6717-01-P